DEPARTMENT OF TRANSPORTATION

Federal Aviation Administration

14 CFR Part 39

[Docket No. FAA-2021-0785; Project Identifier AD-2021-00989-R; Amendment 39-21734; AD 2021-19-16]

RIN 2120-AA64

Airworthiness Directives; Airbus Helicopters

AGENCY: Federal Aviation Administration (FAA), DOT.

ACTION: Final rule; request for comments.

SUMMARY: The FAA is superseding Airworthiness Directive (AD) 2021-16-02, which applied to certain Airbus Helicopters Model SA330J, AS332C, AS332L, AS332L1, AS332L2, and EC225LP helicopters. AD 2021-16-02 required inspecting the locking safety mechanism of the left-hand (LH) side stairway door handle and depending on the results, corrective action. AD 2021-16-02 also required modifying that locking safety mechanism. This AD retains the requirements in AD 2021-16-02, as specified in a European Union Aviation Safety Agency (EASA) AD, which is incorporated by reference, and clarifies a certain exception. This AD was prompted by the need to clarify that exception. The FAA is issuing this AD to address the unsafe condition on these products.

DATES: This AD becomes effective October 12, 2021.

The Director of the Federal Register approved the incorporation by reference of a certain publication listed in this AD as of September 24, 2021 (86 FR 46771).

The FAA must receive comments on this AD by November 12, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call (817) 222-5110. It is also available in the AD docket at https://www.regulations.gov by searching for and locating Docket No. FAA-2021-0785.

Examining the AD Docket

You may examine the AD docket at https://www.regulations.gov by searching for and locating Docket No. FAA-2021-0785; or in person at Docket Operations between 9 a.m. and 5 p.m., Monday through Friday, except Federal holidays. The AD docket contains this AD, any comments received, and other information. The street address for Docket Operations is listed above. Comments will be available in the AD docket shortly after receipt.

FOR FURTHER INFORMATION CONTACT: Hal Jensen, Aerospace Engineer, Operational Safety Branch, FAA, 950 L'Enfant Plaza N SW, Washington, DC 20024; telephone (202) 267-9167; email hal.jensen@faa.gov.

SUPPLEMENTARY INFORMATION:

Background

The FAA issued AD 2021-16-02, Amendment 39-21663 (86 FR 46771, August 20, 2021) (AD 2021-16-02), for certain Airbus Helicopters Model SA330J, AS332C, AS332L, AS332L1, AS332L2, and EC225LP helicopters. AD 2021-16-02 required inspecting the locking safety mechanism of the LH side stairway door handle and depending on the results, corrective action. AD 2021-16-02 also required modifying that locking safety mechanism.

AD 2021-16-02 was prompted by EASA AD 2020-0087, dated April 15, 2020 (EASA AD 2020-0087), issued by EASA, which is the Technical Agent for the Member States of the European Union, to correct an unsafe condition for Airbus Helicopters (AH), formerly Eurocopter, Eurocopter France, Aerospatiale, Sud Aviation, Model SA330J, AS332C, AS332L, AS332L1, AS332L2, and EC225LP helicopters, if equipped with an LH side stairway door, except helicopters modified in accordance with AH modification (MOD) 07 28281 (AS 332, EC 225) or MOD 07 27338 (SA 330). EASA issued EASA AD 2020-0087 to supersede EASA Emergency AD 2014-0241-E, dated November 4, 2014 (EASA AD 2014-0241-E).

The FAA issued AD 2021-16-02 to address incorrect locking of the LH side stairway door, which could result in an in-flight opening of the door and subsequent damage to the helicopter or injury to persons on the ground. See EASA AD 2020-0087 for additional background information.

Actions Since AD 2021-16-02 Was Issued

Since AD 2021-16-02 was issued, the FAA has determined that is necessary to clarify a required exception. As published, paragraph (h)(7) of AD 2021-16-02 could cause confusion with paragraph (h)(5) of AD 2021-16-02. Paragraph (h)(7) of this AD clarifies that the terminating action for the repetitive inspections as required by paragraph (2) of EASA AD 2020-0087 does not apply to this AD. The repetitive inspections as required by paragraph (2) of EASA AD 2020-0087 are not required by paragraph (h)(5) of this AD, and accordingly, this AD cannot provide terminating action for those repetitive inspections.

Related Service Information Under 1 CFR Part 51

EASA AD 2020-0087 requires repetitively inspecting the locking safety mechanism of the LH side stairway door handle for correct operation and depending on the results, reconditioning the locking safety mechanism or contacting the Airbus Helicopters Support and Services Department. EASA AD 2020-0087 also requires modifying the locking safety mechanism, which constitutes terminating action for the repetitive inspections.

This material is reasonably available because the interested parties have access to it through their normal course of business or by the means identified in the ADDRESSES section.

FAA's Determination

These helicopters have been approved by EASA and are approved for operation in the United States. Pursuant to the FAA's bilateral agreement with the European Union, EASA has notified the FAA about the unsafe condition described in its AD. The FAA is issuing this AD after evaluating all known relevant information and determining that the unsafe condition described previously is likely to exist or develop on other helicopters of these same type designs.

AD Requirements

This AD requires accomplishing the actions specified in EASA AD 2020-0087, described previously, as incorporated by reference, except for any differences identified as exceptions in the regulatory text of this AD and except as discussed under “Differences Between this AD and the EASA AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2020-0087 is incorporated by reference in this FAA final rule. This AD, therefore, requires compliance with EASA AD 2020-0087 in its entirety, through that incorporation, except for any differences identified as exceptions in the regulatory text of this AD. Using common terms that are the same as the heading of a particular section in EASA AD 2020-0087 does not mean that operators need comply only with that section. For example, where the AD requirement refers to “all required actions and compliance times,” compliance with this AD requirement is not limited to the section titled “Required Action(s) and Compliance Time(s)” in the EASA AD. Service information referenced in EASA AD 2020-0087 for compliance will be available at https://www.regulations.gov by searching for and locating FAA-2021-0785.

Differences Between This AD and the EASA AD

Where EASA AD 2020-0087 refers to the effective date of EASA AD 2014-0241-E or its effective date, this AD requires using the effective date of this AD. Where EASA AD 2020-0087 refers to Group 1 and 2 helicopters, this AD does not refer to any groups of helicopters. Where the service information referenced in EASA AD 2020-0087 allows the pilot to perform the requirements of the ASB, this AD requires the requirements to be performed by a qualified mechanic. Where the service information referenced in EASA AD 2020-0087 specifies to submit certain information to the manufacturer, this AD does not include that requirement. Where the service information referenced in EASA AD 2020-0087 specifies to discard certain parts, this AD requires removing those parts from service instead. EASA AD 2020-0087 requires repeating the inspection before next flight after each application of painting on the LH side stairway door or its external door handle, whereas this AD does not. EASA AD 2020-0087 allows a terminating action for the repetitive inspections, whereas this AD does not. EASA AD 2020-0087 requires contacting the Airbus Helicopters Support and Services Department if it is impossible to recondition the locking safety mechanism by moving the door handle, whereas this AD requires, before further flight, accomplishing paragraph (5) of EASA AD 2020-0087 or accomplishing corrective action using a method approved by the Manager, International Validation Branch, FAA. The Manager's approval letter must specifically refer to this AD.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

This AD clarifies an exception in AD 2021-16-02 that could affect compliance and the public was previously provided opportunity for comment on the costs of the AD and required actions.

Accordingly, notice and opportunity for prior public comment are unnecessary pursuant to 5 U.S.C. 553(b)(3)(B). In addition, the FAA finds that good cause exists pursuant to 5 U.S.C. 553(d) for making this amendment effective in less than 30 days, for the same reasons the FAA found good cause to forgo notice and comment.

Comments Invited

The FAA invites you to send any written relevant data, views, or arguments about this AD. Send your comments to an address listed under ADDRESSES. Include “Docket No. FAA-2021-0785; Project Identifier AD-2021-00989-R” at the beginning of your comments. The most helpful comments reference a specific portion of the AD, explain the reason for any recommended change, and include supporting data. The FAA will consider all comments received by the closing date and may amend this AD because of those comments.

Except for Confidential Business Information (CBI) as described in the following paragraph, and other information as described in 14 CFR 11.35, the FAA will post all comments received, without change, to https://www.regulations.gov, including any personal information you provide. The agency will also post a report summarizing each substantive verbal contact received about this AD.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Hal Jensen, Aerospace Engineer, Operational Safety Branch, FAA, 950 L'Enfant Plaza N SW, Washington, DC 20024; telephone (202) 267-9167; email hal.jensen@faa.gov. Any commentary that the FAA receives that is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 37 helicopters of U.S. Registry. Labor rates are estimated at $85 per work-hour. Based on these numbers, the FAA estimates that operators may incur the following costs in order to comply with this AD.

Inspecting the operation of the locking safety mechanism on the LH side stairway door handle takes about 0.1 work-hour for an estimated cost of $9 per helicopter and $333 for the U.S. fleet. Moving the external door handle from the “Locked” to the “Unlocked” position to determine if the safety mechanism on the LH side stairway door handle can lock automatically takes about 0.5 work-hour for an estimated cost of $43 per helicopter. Modifying the locking safety mechanism on the LH side stairway door handle takes about 8 work-hours and parts cost about $5,000 for an estimated cost of $5,680 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD would not have federalism implications under Executive Order 13132. This AD would not have a substantial direct effect on the States, on the relationship between the national Government and the States, or on the distribution of power and responsibilities among the various levels of government.

For the reasons discussed above, I certify this regulation:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-16-02, Amendment 39-21663 (86 FR 46771, August 20, 2021); and

b. Adding the following new airworthiness directive:

2021-19-16 Airbus Helicopters: Amendment 39-21734; Docket No. FAA-2021-0785; Project Identifier AD-2021-00989-R.

(a) Effective Date

This airworthiness directive (AD) becomes effective October 12, 2021.

(b) Affected ADs

This AD replaces AD 2021-16-02, Amendment 39-21663 (86 FR 46771, August 20, 2021) (AD 2021-16-02).

(c) Applicability

This AD applies to Airbus Helicopters Model SA330J, AS332C, AS332L, AS332L1, AS332L2, and EC225LP helicopters, certificated in any category, as identified in the Applicability of European Union Aviation Safety Agency AD 2020-0087, dated April 15, 2020 (EASA AD 2020-0087).

(d) Subject

Joint Aircraft System Component (JASC) Code: 5210, Passenger/Crew Doors.

(e) Unsafe Condition

This AD was prompted by a report of a left-hand (LH) side stairway door that inadvertently opened and tore off from its attachment fittings during flight. The FAA is issuing this AD to address incorrect locking of the LH side stairway door, which could result in an in-flight opening of the door and subsequent damage to the helicopter or injury to persons on the ground.

(f) Compliance

Comply with this AD within the compliance times specified, unless already done.

(g) Requirements

Except as specified in paragraph (h) of this AD: Comply with all required actions and compliance times specified in, and in accordance with, EASA AD 2020-0087.

(h) Exceptions to EASA AD 2020-0087

(1) Where EASA AD 2020-0087 refers to November 6, 2014 (the effective date of EASA AD 2014-0241-E, dated November 4, 2014) or its effective date, this AD requires using the effective date of this AD.

(2) Where EASA AD 2020-0087 refers to Group 1 and Group 2 helicopters, this AD does not refer to any groups of helicopters.

(3) Where the service information referenced in EASA AD 2020-0087 permits certain actions to be performed by a mechanical engineering technician or pilot, this AD requires that the actions be performed by a qualified mechanic.

(4) Where the service information referenced in EASA AD 2020-0087 specifies to discard certain parts, this AD requires removing those parts from service.

(5) While paragraph (2) of EASA AD 2020-0087 requires actions before next flight after each application of painting on the LH side stairway door or its external door handle, those actions are not required by this AD.

(6) Where paragraph (3) of EASA AD 2020-0087 requires reconditioning the locking safety mechanism, and the service information referenced in paragraph (3) of EASA AD 2020-0087 specifies contacting the Airbus Helicopters Support and Services Department if it is impossible to recondition the locking safety mechanism by moving the door handle, this AD requires moving the external door handle from the “Locked” to the “Unlocked” position to determine if the safety mechanism can lock automatically. If the safety mechanism does not lock automatically, this AD requires, before further flight accomplishing paragraph (5) of EASA AD 2020-0087 or accomplishing corrective action using a method approved by the Manager, International Validation Branch, FAA. The Manager's approval letter must specifically refer to this AD.

(7) Where paragraph (5) of EASA AD 2020-0087 identifies the modification as required by paragraph (4) of EASA AD 2020-0087 as terminating action for the repetitive inspections as required by paragraph (2) of EASA AD 2020-0087 for that helicopter, the terminating action for the repetitive inspections as required by paragraph (2) of EASA AD 2020-0087 does not apply to this AD.

(8) This AD does not mandate compliance with the “Remarks” section of EASA AD 2020-0087.

(i) No Reporting Requirement

Although the service information referenced in EASA AD 2020-0087 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Hal Jensen, Aerospace Engineer, Operational Safety Branch, FAA, 950 L'Enfant Plaza N SW, Washington, DC 20024; telephone (202) 267-9167; email hal.jensen@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on September 24, 2021 (86 FR 46771).

(i) European Union Aviation Safety Agency (EASA) AD 2020-0087, dated April 15, 2020.

(ii) [Reserved]

(4) For EASA AD 2020-0087, contact the EASA, Konrad-Adenauer-Ufer 3, 50668 Cologne, Germany; telephone +49 221 8999 000; email ADs@easa.europa.eu; internet www.easa.europa.eu. You may find this EASA AD on the EASA website at https://ad.easa.europa.eu.

(5) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating FAA-2021-0785.

(6) You may view this material that is incorporated by reference at the National Archives and Records Administration (NARA). For information on the availability of this material at NARA, email fr.inspection@nara.gov, or go to https://www.archives.gov/federal-register/cfr/ibr-locations.html.

Issued on September 8, 2021.
Lance T. Gant,
Director, Compliance & Airworthiness Division, Aircraft Certification Service.

[FR Doc. 2021-20464 Filed 9-24-21; 8:45 am]

BILLING CODE 4910-13-P